COMMODITY FUTURES TRADING COMMISSION

Sunshine Act Meetings

TIME AND DATE: 1:00 p.m. EDT, Wednesday, July 22, 2020 and 10:00 a.m. EDT, Thursday, July 23, 2020.

PLACE: Conference call.

STATUS: Open.

MATTERS TO BE CONSIDERED: The Commodity Futures Trading Commission (“Commission” or “CFTC”) will hold these meetings to consider the matters described herein.

To be considered at the July 22, 2020 meeting:

• Final Rule: Capital Requirements of Swap Dealers and Major Swap Participants; and

• Proposed Rules: Margin Requirements for Uncleared Swaps for Swap Dealers and Major Swap Participants.

To be considered at the July 23, 2020 meeting:

• Amendment Order: Exempting Certain Multilateral Trading Facilities and Organised Trading Facilities Authorized Within the European Union from the Requirement to Register with the Commodity Futures Trading Commission as Swap Execution Facilities; and

• Final Rule: Cross-Border Application of the Registration Thresholds and Certain Requirements Applicable to Swap Dealers and Major Swap Participants.

The agenda for each meeting will be available to the public and posted on the Commission's website at https://www.cftc.gov. Instructions for public access to the live audio feed of the meetings will also be posted on the Commission's website. In the event that the time, date, or place of these meetings change, an announcement of the change, along with the new time, date, or place of the meeting, will be posted on the Commission's website.

CONTACT PERSON FOR MORE INFORMATION: Christopher Kirkpatrick, Secretary of the Commission, 202-418-5964.

Authority: 5 U.S.C. 552b.

Dated: July 13, 2020.
Christopher Kirkpatrick,
Secretary of the Commission.

[FR Doc. 2020-15429 Filed 7-13-20; 4:15 pm]

BILLING CODE 6351-01-P